DEPARTMENT OF THE INTERIOR

Bureau of Indian Affairs

25 CFR Parts 81 and 82

[BIA-2014-0006; K00103 12/13 A3A10; 134D0102DR-DS5A300000-DR.5A311.IA000113]

RIN 1076-AE93

Secretarial Election Procedures

AGENCY: Bureau of Indian Affairs, Interior.

ACTION: Notice of tribal consultation meetings.

SUMMARY: This document announces tribal consultation meetings on the proposed rule amending regulations governing Secretarial elections and petitioning procedures.

DATES: See the SUPPLEMENTARY INFORMATION section of this document for dates of the tribal consultation meetings.

ADDRESSES: See the SUPPLEMENTARY INFORMATION section of this document for addresses of the tribal consultation meetings.

FOR FURTHER INFORMATION CONTACT: Ms. Laurel Iron Cloud, Chief, Division of Tribal Government Services, Central Office, Bureau of Indian Affairs at telephone (202) 513-7641. Individuals who use a telecommunications device for the deaf (TDD) may call the Federal Information Relay Service at 1 (800) 877-8339 between 8 a.m. and 4 p.m. Monday through Friday, excluding Federal holidays.

SUPPLEMENTARY INFORMATION: On October 9, 2014, we published a proposed rule amending 25 CFR parts 81 (Secretarial Elections) and 82 (Petitioning Procedures), combining them into one Code of Federal Regulations part at 25 CFR part 81. See 79 FR 61021. The proposed rule is available at: http://www.bia.gov/WhoWeAre/AS-IA/ORM/SecElections/index.htm.

We will be hosting the following tribal consultations sessions on this proposed rule:

Date | Time | Location | Venue
Sunday, October 26, 2014 | 1:00 p.m.-4:00 p.m. (Local time) | Atlanta, GA | National Congress of American Indians (NCAI) Annual Convention, Hyatt Regency Atlanta, 265 Peachtree St. NE., Atlanta, GA 30303.
Tuesday, November 18, 2014 | 8:30 a.m.-12:00 p.m. (Local time) | Oklahoma City, OK | Embassy Suites Oklahoma City Airport, 1815 S. Meridian Ave., Oklahoma City, OK 73108.
Thursday, November 20, 2014 | 8:30 a.m.-12:00 p.m. (Local time) | Rocklin, CA | Whitney Oaks Golf Club, 2305 Clubhouse Drive, Rocklin, CA 95765.

Dated: October 15, 2014.
Lawrence Roberts,
Principal Deputy Assistant Secretary—Indian Affairs.

[FR Doc. 2014-24906 Filed 10-17-14; 8:45 am]

BILLING CODE 4310-4J-P